DEPARTMENT OF THE INTERIOR

Fish and Wildlife Service

[FWS-R4-R-2012-N212; FXRS126104000004A-123-FF04R08000]

Information Collection Request Sent to the Office of Management and Budget (OMB) for Approval; National Wildlife Refuge Visitor Check-In Permit and Use Report

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before September 28, 2012.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS 2042-PDM, 4401 North Fairfax Drive, Arlington, VA 22203 (mail), or INFOCOL@fws.gov (email). Please include “1018-XXXX” in the subject line of your comments.

FOR FURTHER INFORMATION CONTACT: To request additional information about this ICR, contact Hope Grey at INFOCOL@fws.gov (email) or 703-358-2482 (telephone). You may review the ICR online at http://www.reginfo.gov. Follow the instructions to review Department of the Interior collections under review by OMB.

SUPPLEMENTARY INFORMATION:

OMB Control Number: 1018-XXXX.

Title: National Wildlife Refuge Visitor Check-In Permit and Use Report.

Service Form Number: 3-2405.

Type of Request: Request for a new OMB control number.

Description of Respondents: Visitors to national wildlife refuges. Respondent's Obligation: Required to obtain or retain a benefit.

Frequency of Collection: On occasion.

Estimated Annual Number of Respondents: 650,000.

Estimated Annual Number of Responses: 650,000.

Estimated Completion Time per Response: 5 minutes.

Estimated Total Annual Burden Hours: 54,167.

Abstract: The National Wildlife Refuge System Administration Act of 1966 (16 U.S.C. 668dd-668ee), as amended by the National Wildlife Refuge System Improvement Act of 1997, and the Refuge Recreation Act of 1962 (16 U.S.C. 460k-460k-4) govern the administration and uses of national wildlife refuges and wetland management districts. We are authorized to permit public uses on lands of the National Wildlife Refuge System, including hunting, fishing, wildlife observation, wildlife photography, and environmental education and interpretation, and other visitor uses when we find that the activities are compatible and appropriate with the purpose or purposes for which the refuges were established.

We need to collect information on hunters and anglers and other visitors in order to protect refuge resources and administer and evaluate the success of visitor programs. Because of high demand and limited resources, we often provide visitor opportunities by permit, based on dates, locations, or type of public use. We may not allow all opportunities on all refuges and harvest information differs for each refuge. We are proposing to use a new form (FWS Form 3-2405) to collect this information. Not all refuges will use the form and some refuges may collect the information in a nonform format. We propose to collect:

• Information on the visitor (name, address, and contact information). This information is used to identify the visitor or driver/passengers of a vehicle while on the refuge. Having this information readily available is critical in a search and rescue situation. We will not maintain or record this information.

• Whether or not hunters/anglers were successful (number and type of harvest/caught).

• Purpose of visit (hunting, fishing, wildlife observation, wildlife photography, auto touring, birding, hiking, boating/canoeing, visitor center, special event, environmental education class, volunteering, other recreation).

• Date of visit.

This information will be a vital tool in meeting refuge objectives and maintaining quality visitor experiences. The above information will help us:

• Administer and monitor visitor programs and facilities on refuges.

• Distribute visitor permits to ensure safety of visitors.

• Ensure a quality visitor experience.

• Minimize resource disturbance, manage healthy game populations, and ensure the protection of fish and wildlife species.

• Assist in Statewide wildlife management and enforcement and develop reliable estimates of the number of all game fish and wildlife.

• Determine facility and program needs and budgets.

Comments: On May 6, 2010, we published in the Federal Register (75 FR 24964) a notice of our intent to request that OMB approve this information collection. In that notice, we solicited public comments for 60 days, ending July 6, 2010. We received one comment in response to this notice. The commenter expressed displeasure with the fact that this card is being used to count “wildlife murderers,” which this person believes is not a good use of the taxpayer's dollars. The commenter did not address the information collection requirements, and we did not make any changes to the requirements.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: August 21, 2012.
Tina A. Campbell,
Chief, Division of Policy and Directives Management, U.S. Fish and Wildlife Service.

[FR Doc. 2012-21269 Filed 8-28-12; 8:45 am]

BILLING CODE 4310-55-P